FEDERAL COMMUNICATIONS COMMISSION

47 CFR Part 73

[DA 05-2494; MB Docket No. 04-343; RM-10799]

Radio Broadcasting Services; Cridersville, OH

AGENCY: Federal Communications Commission.

ACTION: Final rule.

SUMMARY: This document grants a petition filed by Dana J. Puopolo requesting the allotment of Channel 257A at Cridersville, Ohio, as its first local service. See 69 FR 54613, published September 9, 2004. Channel 257A can be allotted consistent with the Commission's minimum spacing requirements, provided there is a site restriction of 11.8 kilometers (7.3 miles) north at reference coordinates 40-45-20 NL and 84-06-39 WL. The site restriction is necessary to prevent short-spacing to the licensed site of Station WBYR(FM), Channel 255B, Van Wert, Ohio. This allotment is located with 320 kilometers (199 miles) of the U.S.-Canadian border. The Canadian government has accepted concurrence for this allotment.

DATES: Effective November 10, 2005.

ADDRESSES: Federal Communications Commission, 445 Twelfth Street, SW., Washington, DC 20554.

FOR FURTHER INFORMATION CONTACT: Rolanda F. Smith, Media Bureau, (202) 418-2180.

SUPPLEMENTARY INFORMATION: This is a summary of the Commission's Report and Order, MB Docket No. 04-343, adopted September 23, 2005, and released September 26, 2005. The full text of this Commission decision is available for inspection and copying during normal business hours in the Commission's Reference Center, 445 Twelfth Street, SW., Washington, DC 20554. The complete text of this decision may also be purchased from the Commission's duplicating contractor, Best Copy and Printing, Inc., 445 12th Street, SW., Room CY-B402, Washington, DC, 20054, telephone 1-800-378-3160 or http://www.BCPIWEB.com. The Commission will send a copy of this Report and Order in a report to be sent to Congress and the Government Accountability Office pursuant to the Congressional Review Act, see 5 U.S.C. 801(a)(1)(A).

List of Subjects in 47 CFR Part 73

Radio, Radio broadcasting.

PART 73—RADIO BROADCAST SERVICES

1. The authority citation for part 73 continues to read as follows:

Authority: 47 U.S.C. 154, 303, 334 and 336.

§ 73.202 [Amended]

2. Section 73.202(b), the Table of FM Allotments under Ohio, is amended by adding Cridersville, Channel 257A.

Federal Communications Commission.
John A. Karousos,
Assistant Chief, Audio Division, Media Bureau.

[FR Doc. 05-20352 Filed 10-11-05; 8:45 am]

BILLING CODE 6712-01-P